DEPARTMENT OF AGRICULTURE

Submission for OMB Review; Comment Request

October 13, 2021.

The Department of Agriculture has submitted the following information collection requirement(s) to the Office of Management and Budget (OMB) for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by November 15, 2021 will be considered. Written comments and recommendations for the proposed information collection should be submitted within 30 days of the publication of this notice on the following website www.reginfo.gov/public/do/PRAMain. Find this information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: School Meals Operations Study: Evaluation of the COVID-19 Child Nutrition Waivers and Child Nutrition Programs.

Control Number: 0584-0607.

Summary of Collection: This is a revision to a currently approved information collection for the School Meals Operations Study: State Agency COVID-19 Child Nutrition Waivers Evaluation (which has been renamed for this revision). This collection is necessary to provide up-to-date information about child nutrition (CN) program operations, including the use and impact of the COVID-19 CN nationwide waivers required by the Families First Coronavirus Response Act (FFCRA) (Pub. L. 116-127). The annual data collected from this study allows the Food and Nutrition Service (FNS) to describe and assess program operations, provide input for legislation and regulations on the CN programs, develop pertinent technical assistance and training for program staff at the State and School Food Authority (SFA) levels, and inform the budget process. This information is necessary for FNS to understand how recent and proposed legislation, regulations, policies, and initiatives change the CN program operations. Because the COVID-19 pandemic has changed the way that school meal programs operate, with other CN programs such as the Child and Adult Care Food Program and the Summer Food Service Program being used in place of or in combination with the National School Lunch and School Breakfast Programs to provide meals to students, this study will collect administrative and web survey data from the States on each of these programs, and web survey data from SFAs on the programs that they operate.

Need and Use of the Information: This mandatory study will collect data from the State CN and School Food Authority (SFA) directors. The State CN directors will complete two online surveys in 2021 and 2022 and two state-level administrative data collections covering Fiscal Years 2021 and 2022. The SFA directors (including those of private schools) will complete one online survey in 2021/2022. The state-level collection activities will focus primarily on collecting the data needed to meet the congressionally-mandated reporting requirements for the nationwide CN COVID-19 waivers specified in section 2202 of the FFCRA and used in Fiscal Years 2021 and 2022. The survey for the SFA directors will focus on the financial impacts of the COVID-19 pandemic and program operations during School Years 2020-2021 and 2021-2022. FNS will use the data to assess meal service levels to determine coverage within and across states, look for patterns and trends across site types, and assess how the waivers were used and how they improved services to children since, in the absence of these waivers, meal service may not have been possible. The information will also inform FNS's planning, policy, and guidance related to state and local meal service operations during future emergency situations and unanticipated school closures.

Description of Respondents: State, Local, or Tribal Government and Not-for-Profit Institutions.

Number of Respondents: 1,339.

Frequency of Responses: Reporting: Annually.

Total Burden Hours: 4,116.

Levi S. Harrell,
Departmental Information Collection Clearance Officer.

[FR Doc. 2021-22656 Filed 10-14-21; 8:45 am]

BILLING CODE 3410-30-P